DEPARTMENT OF HOMELAND SECURITY

United States Coast Guard

[Docket No. USCG-2020-0188]

Recertification of Cook Inlet Regional Citizens' Advisory Council

AGENCY: Coast Guard, Homeland Security (DHS).

ACTION: Notice of recertification.

SUMMARY: The Coast Guard announces the recertification of the Cook Inlet Regional Citizens' Advisory Council (CIRCAC) as an alternative voluntary advisory group for Cook Inlet, Alaska. This certification allows the CIRCAC to monitor the activities of terminal facilities and crude oil tankers under the Cook Inlet Program established by the Oil Terminal and Oil Tanker Environmental Oversight and Monitoring Act of 1990.

DATES: This recertification is effective for the period from September 1, 2020, through August 31, 2021.

FOR FURTHER INFORMATION CONTACT: For information about this document, call or email LT Lauren Bloch, Seventeenth Coast Guard District (dpi), by phone at (907) 463-2812 or email at Lauren.E.Bloch@uscg.mil.

SUPPLEMENTARY INFORMATION:

Background and Purpose

The Coast Guard published guidelines on December 31, 1992 (57 FR 62600), to assist groups seeking recertification under the Oil Terminal and Oil Tanker Environmental Oversight and Monitoring Act of 1990 (33 U.S.C. 2732) (the Act). The Coast Guard issued a policy statement on July 7, 1993 (58 FR 36504), to clarify the factors that the Coast Guard would be considering in making its determination as to whether advisory groups should be certified in accordance with the Act, and the procedures which the Coast Guard would follow in meeting its certification responsibilities under the Act. Most recently, on September 16, 2002 (67 FR 58440), the Coast Guard changed its policy on recertification procedures for regional citizen's advisory council by requiring applicants to provide comprehensive information every three years. For the two years in between, applicants only submit information describing substantive changes to the information provided at the last triennial recertification. This is the year in the triennial cycle in which CIRCAC provided comprehensive information on its application for recertification. The Coast Guard solicited public comments on CIRCAC recertification through a Notice; Request for comments published on June 11, 2020, titled “Application for Recertification of Cook Inlet Regional Citizens' Advisory Council” (85 FR 35658).

Discussion of Comments

On June 11, 2020, the Coast Guard published a Notice; Request for comments titled “Application for Recertification of Cook Inlet Regional Citizens' Advisory Council” in the Federal Register (85 FR 35658). We received 39 comments, all in support of the CIRCAC recertification. No public meeting was requested. The comments consistently cited CIRCAC's broad representation of the respective communities' interest, appropriate actions to keep the public informed, improvements to both spill response preparation and spill prevention, and oil spill industry monitoring efforts that combat complacency—as intended by the Act.

Recertification

By letter dated August 28, 2020, the Commander, Seventeenth Coast Guard District, certified that the CIRCAC qualifies as an alternative voluntary advisory group under 33 U.S.C. 2732(o). The triennial review is valid until August 31, 2023. The annual recertification will terminate on August 31, 2021.

Dated: August 28, 2020.
Matthew T. Bell, Jr.,
Rear Admiral, U.S. Coast Guard, Commander, Seventeenth Coast Guard District.

[FR Doc. 2020-19730 Filed 9-4-20; 8:45 am]

BILLING CODE 9110-04-P